DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are made available for licensing by the Department of the Navy.

The following are available for licensing: Navy Case No. 100513: METHOD OF FABRICATING A DUAL CRYSTALLINE SILICON SUSPENSION SYSTEM USING PRE-FABRICATED CAVITIES//Navy Case No. 100910: HARVESTING ROTATIONAL ENERGY USING LINEAR-BASED ENERGY HARVESTERS//Navy Case No. 101501: RECONFIGURABLE ACTIVELY SWITCHED FLYING CAPACITOR ARRAY//Navy Case No. 101592: ANALYTICAL RECONSTRUCTION OF DIGITAL SIGNALS VIA STITCHED POLYNOMIAL FITTING//Navy Case No. 101761: APPARATUS AND METHODS FOR TIME DOMAIN MEASUREMENTS OF OSCILLATION PERTURBATIONS USING PHASE SHIFTED VIRTUAL INTERVALS//Navy Case No. 101804: LIGHT FIELD IMAGING ASSISTED INERTIAL MAPPING AND NAVIGATION//Navy Case No. 101875: INERTIAL SENSORS USING SLIDING PLANE ELECTRON TUNNELING PROXIMITY SWITCHES//Navy Case No. 102181: METHOD FOR FABRICATING PROXIMITY SWITCH BY ANGLED DEPOSITION//Navy Case No. 102216: CAPACITIVE PROXIMITY TRIGGER FOR USE IN TIME-DOMAIN MEMS INERTIAL SENSORS.

FOR FURTHER INFORMATION CONTACT: Brian Suh, Office of Research and Technology Applications, Space and Naval Warfare Systems Center Pacific, Code 72120, 53560 Hull St, Bldg A33 Room 2531, San Diego, CA 92152-5001, telephone 619-553-5118, email: brian.suh@navy.mil.

(Authority: 35 U.S.C. 207, 37 CFR part 404.)

Dated: April 8, 2013
C.K. Chiappetta,
Lieutenant Commander, Office of the Judge Advocate General, U.S. Navy, Federal Register Liaison Officer.

[FR Doc. 2013-08915 Filed 4-15-13; 8:45 am]

BILLING CODE 3810-FF-P